DEPARTMENT OF HEALTH AND HUMAN SERVICES

Centers for Medicare & Medicaid Services

[CMS-1488-CN2]

RIN 0938-A012

Medicare Program; Changes to the Hospital Inpatient Prospective Payment Systems and Fiscal Year 2007 Rates; Final Fiscal Year 2007 Wage Indices and Payment Rates After Application of Revised Occupational Mix Adjustment to the Wage Index; Corrections

AGENCY: Centers for Medicare & Medicaid Services (CMS), HHS.

ACTION: Correction of notice.

SUMMARY: This document corrects wage index and technical errors that appeared in the notice published in the Federal Register on October 11, 2006 entitled “Medicare Program; Hospital Inpatient Prospective Payment Systems and Fiscal Year 2007 Rates.

DATES: Effective Date: Corrections listed in items 10 through 12 of section III. of this notice are effective as of October 1, 2006. The corrections to the wage index listed in items 2a, 3 through 8a, and 9a of section III. of this notice are effective as of November 3, 2006. The corrections to the wage index listed in items 1, 2b, 8b, and 9b of section III. of this notice are effective as of November 21, 2006.

FOR FURTHER INFORMATION CONTACT: Marc Hartstein, (410) 786-4548.

SUPPLEMENTARY INFORMATION:

I. Background

In FR Doc. 06-8471 of October 11, 2006 (71 FR 59886), the notice entitled “Hospital Inpatient Prospective Payment Systems and Fiscal Year 2007 Rates: Final Fiscal Year 2007 Wage Indices and Payment Rates After Application of Revised Occupational Mix Adjustment to Wage Index” (hereinafter referred to as the “FY 2007 IPPS notice”), there were a number of technical errors that are identified and corrected in the Correction of Errors section (items 10 through 12 of section III. of this notice). These technical corrections are effective October 1, 2006.

In addition, in October 2006, we became aware of an error in the calculation of the FY 2007 wage index for a number of rural areas and several hospitals that are reclassified to those areas. The error also affected some hospitals in urban areas that are assigned the statewide rural wage index floor. Section 412.64(k)(1) of the regulations requires that wage index corrections made after October 1 are effective prospectively for the remainder of the fiscal year from the date the fiscal intermediaries are informed of the correction. We recalculated the wage indices for the affected hospitals, and on November 3, 2006, sent a Joint Signature Memorandum to the fiscal intermediaries informing them to pay hospitals using the corrected wage indices. Subsequent to the November 3, 2006 Joint Signature Memorandum, additional errors in the wage indices were brought to our attention and were corrected through a November 21, 2006 Joint Signature Memorandum. Therefore, the corrected FY 2007 wage indices are effective beginning November 3, 2006 or November 21, 2006. Accordingly, the wage index provisions of this correction notice are corrections to the tabulation of the rates paid to hospitals. We note that the corrections to the impact analysis (item 1 of section III. of this notice) are effective as of November 3, 2006 since the additional corrections made based on the November 21, 2006 Joint Signature Memorandum had no significant effect on the impact analysis.

II. Summary of the Corrections to the FY 2007 IPPS Notice

We made corrections to wage index values and geographic adjustment factors (GAFs) that were published in Tables 2, 4A-1, 4A-2, 4B-1, 4B-2, 4C-1, and 4C-2. In addition, we are making technical corrections to— (1) the out-migration adjustments and qualifying counties that were published in Table 4J; and (2) the list of diagnosis-related groups (DRGs), relative weighting factors, and geometric and arithmetic mean length of stay (LOS) that were published in Table 5.

III. Correction of Errors

In FR Doc. 06-8471 of October 11, 2006 (71 FR 59886), make the following corrections:

1. On pages 59893 and 59894, in Table I.—Impact Analysis of Changes for FY 2007, the figures in the last column (All FY 2007 changes ⁸) are corrected to read as follows:

Impact Analysis of Final Changes for FY 2007 Operating Prospective Payment System
[Percent changes in payments per case]
| All FY 2007 changes (4)
All Hospitals | 3.5
By Geographic Location:
Urban hospitals | 3.5
Large urban areas (populations over 1 million) | 3.5
Other urban areas (populations of 1 million or fewer) | 3.4
Rural hospitals | 4
Bed Size (Urban):
0-99 beds | 3.5
100-199 beds | 3.8
200-299 beds | 3.6
300-499 beds | 3.4
500 or more beds | 3.2
Bed Size (Rural):
0-49 beds | 4.7
50-99 beds | 4.9
100-149 beds | 3.7
150-199 beds | 3.3
200 or more beds | 3.0
Urban by Region:
New England | 3.9
Middle Atlantic | 3.9
South Atlantic | 3.2
East North Central | 3.4
East South Central | 2.7
West North Central | 2.8
West South Central | 3.4
Mountain | 3.7
Pacific | 3.7
Puerto Rico | 2.0
Rural by Region:
New England | 6.3
Middle Atlantic | 5.2
South Atlantic | 3.9
East North Central | 3.8
East South Central | 3.5
West North Central | 4.3
West South Central | 4.1
Mountain | 2.7
Pacific | 3.3
By Payment Classification:
Urban hospitals | 3.4
Large urban areas (populations over 1 million) | 3.5
Other urban areas (populations of 1 million or fewer) | 3.4
Rural areas | 4.0
Teaching Status:
Non-teaching | 3.8
Fewer than 100 Residents | 3.4
100 or more Residents | 3.2
Urban DSH:
Non-DSH | 3.6
100 or more beds | 3.4
Less than 100 beds | 3.6
Rural DSH:
SCH | 4.6
RRC | 3.5
Other Rural:
100 or more beds | 3.5
Less than 100 beds | 3.9
Urban teaching and DSH:
Both teaching and DSH | 3.3
Teaching and no DSH | 3.3
No teaching and DSH | 3.7
No teaching and no DSH | 3.6
Rural Hospital Types:
RRC | 3.5
SCH | 3.6
MDH | 9.0
SCH and RRC | 3.1
MDH and RRC | 14.1
Unknown
Type of Ownership:
Voluntary | 3.5
Proprietary | 3.5
Government | 3.4
Unknown | 7.6
Medicare Utilization as a Percent of Inpatient Days:
0-25 | 3.6
25-50 | 3.3
50-65 | 3.7
Over 65 | 3.8
Unknown | 4.4
Hospitals Reclassified by the Medicare Geographic Classification Review Board:
FY 2005 Reclassifications
Urban Hospitals Reclassified by the Medicare Geographic Classification Review Board: First Half FY 2007 Reclassifications | 3.7
Urban Nonreclassified, First Half FY 2007 | 3.4
All Urban Hospitals Reclassified Second Half FY 2007 | 3.5
Urban Nonreclassified Hospitals Second Half FY 2007 | 3.4
All Rural Hospitals Reclassified Second Half FY 2007 | 3.6
Rural Nonreclassified Hospitals Second Half FY 2007 | 4.5
All Section 401 Reclassified Hospitals | 5.4
Other Reclassified Hospitals (Section 1886(d)(8)(B)) | 4.5
Section 508 Hospitals | 2
Specialty Hospitals | —
Cardiac Specialty Hospitals | 1.2

2. On pages 59903 through to 59968, in Table 2.—Hospital Case-Mix Indexes for Discharges Occurring in Federal Fiscal Year 2005; Hospital Wage Indexes for Federal Fiscal Year 2007; Hospital Average Hourly Wages for Federal Fiscal Years 2005 (2001 Wage Data), 2006 (2002 Wage Data), and 2007 (2003 Wage Data); Wage Indexes and 3-Year Average of Hospital Average Hourly Wages, for the listed providers, the wage indexes are corrected to read as follows:

a. Effective November 3, 2006

Provider No. | FY 2007 wage index
040039 | 0.8341
040047 | 0.8431
070002 | 1.2452
070003 | 1.2461
070004 | 1.2452
070007 | 1.2452
070008 | 1.2452
070009 | 1.2452
070011 | 1.2452
070012 | 1.2452
070015 | 1.2452
070020 | 1.2525
070021 | 1.2461
070024 | 1.2452
070025 | 1.2452
070027 | 1.2452
070029 | 1.2452
070035 | 1.2452
070038 | 1.2452
100025 | 0.8847
100026 | 0.8847
100027 | 0.8847
100048 | 0.8847
100054 | 0.8847
100062 | 0.8907
100081 | 0.8847
100093 | 0.8847
100102 | 0.8972
100106 | 0.8847
100108 | 0.8847
100118 | 0.9245
100122 | 0.8847
100124 | 0.8847
100134 | 0.8847
100142 | 0.8847
100156 | 0.8972
100160 | 0.8847
100175 | 0.9078
100212 | 0.8907
100223 | 0.8847
100231 | 0.8847
100242 | 0.8847
100266 | 0.8847
100290 | 0.9429
100292 | 0.8847
230254 | 1.0381
230257 | 1.0381
230264 | 1.0381
230269 | 1.0381
230277 | 1.0381
260004 | 0.8341
260006 | 0.8341
260015 | 0.8345
260022 | 0.8615
260024 | 0.8341
260047 | 0.8348
260059 | 0.8341
260061 | 0.8341
260070 | 0.8341
260074 | 0.8499
260078 | 0.8341
260080 | 0.8341
260097 | 0.8766
260113 | 0.8341
260116 | 0.8341
260119 | 0.8345
260142 | 0.8341
260147 | 0.8341
260160 | 0.8341
260163 | 0.8341
260195 | 0.8341
280061 | 0.9048
340073 | 0.9828
380002 | 1.0282
380040 | 1.0152
380052 | 1.0152
380081 | 1.0152
390044 | 1.1196
390096 | 1.1196
430094 | 0.9048
470001 | 1.0770
470005 | 1.0383
470012 | 1.0383
470024 | 1.0383
500002 | 1.0390
500007 | 1.0598
500012 | 1.0390
500019 | 1.0603
500031 | 1.0390
500033 | 1.0390
500036 | 1.0390
500037 | 1.0390
500049 | 1.0390
500053 | 1.0390
500058 | 1.0390
500148 | 1.0390
530002 | 0.9128
530006 | 0.9128
530008 | 0.9128
530009 | 0.9128
530010 | 0.9128
530011 | 0.9128
530014 | 0.9128
530017 | 0.9128
530032 | 0.9128
530008 | 0.9057
530009 | 0.9057
530010 | 0.9057
530011 | 0.9057
530014 | 0.9057
530017 | 0.9057
530032 | 0.9057

b. Effective November 21, 2006.

Provider No. | FY 2007 wage index
230013 | 1.0381
230019 | 1.0381
230029 | 1.0381
230047 | 1.0381
230071 | 1.0381
230130 | 1.0381
230151 | 1.0381
230195 | 1.0381
230204 | 1.0381
230207 | 1.0381
230223 | 1.0381
230227 | 1.0381
230254 | 1.0381
230257 | 1.0381
230264 | 1.0381
230269 | 1.0381
230277 | 1.0381
390065 | 1.0977
390138 | 1.0977
490005 | 1.0977

3. On page 59968 in Table 2.—Hospital Case-Mix Indexes for Discharges Occurring in Federal Fiscal Year 2005; Hospital Wage Indexes for Federal Fiscal Year 2007; Hospital Average Hourly Wages for Federal Fiscal Years 2005 (2001 Wage Data), 2006 (2002 Wage Data), and 2007 (2003 Wage Data); Wage Indexes and 3-Year Average of Hospital Average Hourly Wages, the table is corrected by adding a note to the end of the table to read as follows:

Note: Due to the expiration of section 508 of the MMA, the wage index values for some hospitals will change in the second half of the fiscal year. The wage index values in this table reflect an average of the first half of FY 2007 (October 1, 2006-March 31, 2007) and second half of FY 2007 (April 1-September 30, 2007).

4. On pages 59975 through to 59998, in Table 4A-1.—Wage Index and Capital Geographic Adjustment Factor (GAF) for Urban Areas by CBSA, for the listed CBSAs, the wage indexes and GAFs are corrected to read as follows:

CBSA code | Urban area (constituent counties) | Wage index | GAF
15540 | Burlington-South Burlington, VT Chittenden County, VT ² Franklin County, VT Grand Isle County, VT | 1.0383 | 1.0261
23020 | Fort Walton Beach-Crestview-Destin, FL² Okaloosa County, FL | 0.8847 | 0.9195
25540 | Hartford-West Hartford-East Hartford, CT ¹ ² Hartford County, CT Litchfield County, CT Middlesex County, CT Tolland County, CT | 1.2452 | 1.1620
28420 | Kennewick-Richland-Pasco, WA² Benton County, WA Franklin County, WA | 1.0390 | 1.0265
30300 | Lewiston, ID-WA (WA Hospitals) ² Nez Perce County, ID Asotin County, WA | 1.0390 | 1.0265
31020 | Longview, WA Cowlitz County, WA | 1.0390 | 1.0265
34580 | Mount Vernon-Anacortes, WA Skagit County, WA | 1.0390 | 1.0265
35300 | New Haven-Milford, CT ³ New Haven County, CT | 1.2452 | 1.1620
35980 | Norwich-New London, CT New London County, CT | 1.2452 | 1.1620
36100 | Ocala, FL² Marion County, FL | 0.8847 | 0.9195
37460 | Panama City-Lynn Haven, FL Bay County, Fl | 0.8847 | 0.9195
37860 | Pensacola-Ferry Pass-Brent, FL Escambia County, FL Santa Rosa County, FL | 0.8847 | 0.9195
48300 | Wenatchee, WA Chelan County, WA Douglas County, WA | 1.0390 | 1.0265
49420 | Yakima, WA Yakima County, WA | 1.0390 | 1.0265
¹ Large urban area.
² Hospitals geographically located in the area are assigned the statewide rural wage index for FY 2007.
³ For this area, the wage index and GAF on this table are only effective from October 1, 2006 through March 31, 2007. See Table 4A-2 for the values that are effective from April 1 through September 30, 2007.

5. On page 59998, in Table 4A-2.—Wage Index and Capital Geographic Adjustment Factor (GAF) for Certain Urban Areas by CBSA for the Period April 1 Through September 30, 2007, for the listed CBSAs, the wage indexes and GAFs are corrected to read as follows:

CBSA code | Urban area (constituent counties) | Wage index | GAF
16940 | Cheyenne, WY | 0.9057 | 0.9344
35300 | New Haven-Milford, CT | 1.2452 | 1.1620

6. On pages 59998 and 59999, in Table 4B-1.—Wage Index and Capital Geographic Adjustment Factor (GAF) for Rural Areas by CBSA—FY 2007, for the listed CBSAs, the wage indexes and GAFs are corrected to read as follows:

CBSA code | Nonurban area | Wage index | GAF
07 | Connecticut | 1.2452 | 1.1620
10 | Florida | 0.8847 | 0.9195
26 | Missouri | 0.8341 | 0.8832
38 | Oregon ² | 1.0152 | 1.0104
47 | Vermont | 1.0383 | 1.0261
50 | Washington | 1.0390 | 1.0265

7. On page 59999, in Table 4B-2.—Wage Index and Capital Geographic Adjustment Factor (GAF) for Certain Rural Areas by CBSA for the Period April 1 Through September 30, 2007, for the listed CBSA, the wage index and GAF is corrected to read as follows:

CBSA code | Nonurban area | Wage index | GAF
53 | Wyoming | 0.9057 | 0.9344

8. On pages 59999 through to 60003, in Table 4C-1.—Wage Index and Capital Geographic Adjustment Factor (GAF) for Hospitals That Are Reclassified by CBSA, for the listed CBSAs, the wage indexes and GAFs are corrected to read as follows:

a. Effective November 3, 2006.

CBSA code | Area | Wage index | GAF
23020 | Fort Walton Beach-Crestview-Destin, FL | 0.8847 | 0.9195
25540 | Hartford-West Hartford-East Hartford, CT (CT Hospitals) | 1.2452 | 1.1620
27860 | Jonesboro, AR (MO Hospitals) | 0.8345 | 0.8835
28420 | Kennewick-Richland-Pasco, WA | 1.0390 | 1.0265
38340 | Pittsfield, MA | 1.0383 | 1.0261
07 | Connecticut | 1.2452 | 1.1620
10 | Florida (FL Hospitals) | 0.8847 | 0.9195
14 | Illinois (MO Hospitals) | 0.8341 | 0.8832
16 | Iowa | 0.8615 | 0.9029
26 | Missouri | 0.8341 | 0.8832
30 | New Hampshire | 1.0770 | 1.0521
38 | Oregon | 1.0152 | 1.0104
50 | Washington (WA Hospitals) | 1.0390 | 1.0265
53 | Wyoming | 0.9048 | 0.9338

b. Effective November 21, 2006.

CBSA code | Area | Wage index | GAF
47894 | Washington-Arlington-Alexandria, DC-VA-MD-WV | 1.0977 | 1.0659

9. On page 60003, in Table 4C-2.—Wage Index and Capital Geographic Adjustment Factor (GAF) for Certain Hospitals That Are Reclassified by CBSA for the Period April 1 Through September 30, 2007*, CBSAs 35300 and 19804 are corrected and CBSA 47894 is added. The wage indexes and GAFs are corrected to read as follows:

a. Effective November 3, 2006.

CBSA code | Area | Wage index | GAF
19804 | Detroit-Livonia-Dearborn, MI | 1.0381 | 1.0192
35300 | New Haven-Milford, CT | 1.2452 | 1.1620

b. Effective November 21, 2006.

CBSA code | Area | Wage index | GAF
47894 | Washington-Arlington-Alexandria, DC-VA-MD-WV | 1.0977 | 1.0659

10. On pages 60004 through to 60012, in Table 4J.—Out-Migration Adjustment—FY 2007, provider number 010009 is corrected and provider number 010010 is added to read as follows:

a. Effective October 1, 2006.

Provider No. | Reclassified between 10/1/06 and 3/31/07 | Reclassified between 4/1/07 and 9/30/07 | Out-migration adjustment | Qualifying county name
010009 | * | * | 0.0092 | MORGAN.
010010 | * | * | 0.0259 | MARSHALL.

11. On pages 60013 through to 60025, in Table 5.—List of Diagnosis-Related Groups (DRGS), Relative Weighting Factors, and Geometric and Arithmetic Mean Length of Stay (LOS), DRGs 525, 544, and 572 are corrected to read as follows:

a. Effective October 1, 2006.

DRG | FY 07 final rule post-acute care DRG | FY 07 final rule special pay DRG | MDC | Type | DRG title | Weights | Geometric mean LOS | Arithmetic mean LOS
525 | No | No | 05 | SURG | Other Heart Assist System Implant | 2.2268 | 7.7 | 14.3
544 | Yes | Yes | 08 | SURG | Major Joint Replacement or Reattachment of Lower Extremity | 1.9878 | 4.0 | 4.4
572 | Yes | No | 06 | MED | Major Gastrointestinal Disorders and Peritoneal Infections | 1.3378 | 5.6 | 7.1

12. On page 60025 in Table 5.—List of Diagnosis-Related Groups (DRGs), Relative Weighting Factors, and Geometric and Arithmetic Mean Length of Stay (LOS), the table is corrected by adding the following notes to the end of the table:

a. Effective October 1, 2006.

Note: If there is an asterisk in the “Type” column this means that data is unavailable to calculate weights for these low volume DRGs. Therefore, last year's weights have been updated based on the percent change in normalization factors between FY 2006 and FY 2007.

Note: If there is no value or dashes (that is, “----”) in either the geometric mean LOS or the arithmetic mean LOS columns, the volume of cases is insufficient to determine a meaningful computation of these statistics.

IV. Discussion of Effective Date and Notice and Comment Rulemaking

We ordinarily publish a notice of proposed rulemaking in the Federal Register to provide a period for public comment before the provisions of a rule take effect in accordance with section 553(b) of the Administrative Procedure Act (APA) (5 U.S.C. 553(b)). In addition, a final rule would ordinarily require a 30-day delay in effective date after the date of publication in the Federal Register. This correction of the rates published in the FY 2007 IPPS notice does not constitute a rule under the Administrative Procedure Act, because, in our FY 2007 IPPS final rule (71 FR 47870, August 18, 2006), we already published the methodologies and formulas we use for determining the wage index, geographic adjustment factors, and other rates. This notice does not change our methodology or formulas, but merely ensures that our rules are implemented correctly. As this notice is not a rule under the Administrative Procedure Act, no notice of proposed rulemaking or delay in effective date is necessary.

(Catalog of Federal Domestic Assistance Program No. 93.773, Medicare—Hospital Insurance; and Program No. 93.774, Medicare—Supplementary Medical Insurance Program.)
Dated: December 28, 2006.
Ashley Files Flory,
Deputy Executive Secretary to the Department.

[FR Doc. 06-9976 Filed 12-29-06; 1:29 pm]

BILLING CODE 4120-01-P